ENVIRONMENTAL PROTECTION AGENCY

[ER-FRL-9014-1]

Environmental Impact Statements; Notice of Availability

Responsible Agency: Office of Federal Activities, General Information (202) 564-7146 or http://www.epa.gov/compliance/nepa/.

Weekly receipt of Environmental Impact Statements

Filed 03/10/2014 Through 03/14/2014

Pursuant to 40 CFR 1506.9.

Notice

Section 309(a) of the Clean Air Act requires that EPA make public its comments on EISs issued by other Federal agencies. EPA's comment letters on EISs are available at: http://www.epa.gov/compliance/nepa/eisdata.html.

EIS No. 20140073, Draft EIS, FHWA, FL, Gulf Coast Parkway, From US 98 to US 231 and US 98 (Tyndall Parkway), Comment Period Ends: 05/05/2014, Contact: Benito Cunill 850-553-2224.

EIS No. 20140074, Final EIS, USAF, 00, KC-46A Formal Training Unit (FTU) and First Main Operating Base (MOB 1) Beddown, Review Period Ends: 04/21/2014, Contact: Jean Reynolds 210-395-8541.

EIS No. 20140075, Final EIS, USFS, UT, Smiths Fork Vegetation Restoration Project, Review Period Ends: 04/21/2014, Contact: Pete Gomben 801-999-2182.

EIS No. 20140076, Final EIS, BLM, CO, Kremmling Proposed Resource Management Plan, Review Period Ends: 04/21/2014, Contact: Dennis Gale 970-724-3003.

EIS No. 20140077, Draft Supplement, USFS, NM, Carson and Santa Fe National Forests Invasive Plant Control Project, Comment Period Ends: 05/05/2014, Contact: Julie Bain 505-438-5443.

EIS No. 20140078, Draft EIS, BLM, ID, Proposed Modification to the Thomas Creek Mine Plan of Operations, Section 404 Clean Water Act Permit Application and Public Land Disposal, Resource Management Plan, Comment Period Ends: 07/18/2014, Contact: Ken Gardner 208-879-6210.

EIS No. 20140079, Draft EIS, NIH, MD, Proposed 2013 Master Plan National Institutes of Health Bethesda Campus, Comment Period Ends: 05/23/2014, Contact: Valerie Nottingham 301-496-7775.

EIS No. 20140080, Final EIS, USA, 00, Implementation of Energy, Water, and Solid Waste Sustainability Initiatives at Fort Bliss, Review Period Ends: 04/21/2014, Contact: John Kipp 915-568-5162.

EIS No. 20140081, Final EIS, USFS, MT, East Reservoir Project, Review Period Ends: 04/21/2014, Contact: Denise Beck 406-293-7773, ext. 7504.

EIS No. 20140082, Draft EIS, BLM, NV, Long Canyon Mine Project, Comment Period Ends: 05/05/2014, Contact: Whitney Wirthlin 775-861-6568.

EIS No. 20140083, Draft EIS, USACE, SC, Haile Gold Mine Project, Comment Period Ends: 05/09/2014, Contact: Richard Darden 843-329-8043.

EIS No. 20140084, Draft EIS, FERC, TX, Freeport LNG Liquefaction Project, Phase II Modification Project, Comment Period Ends: 05/05/2014, Contact: Eric Tomasi 202-502-8097.

EIS No. 20140085, Draft EIS, USFS, WY, Medicine Bow—Routt National Forests and Thunder Basin National Grassland Invasive Plant Management, Comment Period Ends: 05/07/2014, Contact: Melissa Martin 307-745-2371.

EIS No. 20140086, Draft EIS, USFS, ID, Upper North Fork HFRA Ecosystem Restoration Project, Comment Period Ends: 05/05/2014, Contact: Maggie Seaberg 208-756-2711.

EIS No. 20140087, Final EIS, FHWA, TX, Trinity Parkway, From IH-35E/SH-183 to US-17/SH-310, Review Period Ends: 05/05/2014, Contact: Salvador Deocampo 512-536-5950.

EIS No. 20140088, Final EIS, DOE, CO, PROGRAMMATIC—Uranium Leasing Program, Review Period Ends: 04/21/2014, Contact: Ray Plieness 303-410-4806.

EIS No. 20140089, Draft Supplement, BOEM, 00, Gulf of Mexico Outer Continental Shelf (OCS) Oil and Gas Lease Sales: 2015-2017, Central Planning Area Lease Sales 235, 241, and 247, Comment Period Ends: 05/05/2014, Contact: Gary Goeke 504-736-3233.

EIS No. 20140090, Final Supplement, BOEM, 00, Gulf of Mexico Outer Continental Shelf (OCS) Oil and Gas Lease Sales: 201-2016, Western Planning Area Lease Sales 238, 246, and 248, Review Period Ends: 04/21/2014, Contact: Gary Goeke 504-736-3233.

Amended Notices

EIS No. 20140033, Second Draft Supplement, USACE, WA, Grays Harbor Navigation Improvement Project, Comment Period Ends: 04/08/2014, Contact: Josh Jackson 206-764-6583.

Revision to the FR Notice Published 01/31/2014; Extending Comment Period from 03/24/2014 to 04/08/2014.

EIS No. 20140050, Draft EIS, NRC, OH, GENERIC—License Renewal of Nuclear Plants Regarding Davis-Besse Nuclear Station, Comment Period Ends: 04/21/2014, Contact: Elaine Keegan 301-415-8517.

Revision to the FR Notice Published 02/21/2014; Extending Comment Period from 04/14/2014 to 04/21/2014.

Dated: March 18, 2014.
Dawn Roberts,
Management Analyst, Office of Federal Activities.

[FR Doc. 2014-06230 Filed 3-20-14; 8:45 am]

BILLING CODE 6560-50-P